DEPARTMENT OF THE INTERIOR

Bureau of Land Management

NV-020-1220-XQ

Sierra Front-Northwestern Great Basin Resource Advisory Council—Notice of Meeting Location and Time, Nevada

AGENCY: Bureau of Land Management, Interior.

ACTION: Special Resource Advisory Council Meeting—Black Rock Desert Management Plan.

SUMMARY: In accordance with the Federal Land Policy and Management Act and the Federal Advisory Committee Act of 1972 (FACA), a Department of the Interior, Bureau of Land Management (BLM) Resource Advisory Council meeting will be held as indicated below. Topics for discussion include the review of public comments received on the Black Rock Desert Management Plan, and the time line proposed for completion of the final management plan and environmental impact statement. This meeting is open to the public. The public may present written comments to the Council. The public comment period for items discussed at this Council meeting will be at such time during the meeting as determined by the Council Chairman. Individuals who plan to attend and need further information about the meeting, should contact Les Boni at the Winnemucca Field Office, BLM, 5100 E. Winnemucca Blvd., Reno, Nevada 89445, or by telephone at (775) 623-1500.

LOCATION, DATE and TIME: The Council will meet on Monday, December 4, 2000, from 9 a.m. to 4:30 p.m., at the Fernley Town Complex, 595 Silver Lace Blvd., Fernley, Nevada.

FOR FURTHER INFORMATION CONTACT: Les Boni, Assistant Field Manager Nonrenewable Resources, Winnemucca Field Office, 5100 E. Winnemucca Blvd., Winnemucca, Nevada 89445, telephone (775) 623-1500.

Colin P. Christensen,
Acting Winnemucca Field Manager.

[FR Doc. 00-28004 Filed 10-31-00; 8:45 am]

BILLING CODE 4310-HC-P